DEPARTMENT OF ENERGY

Federal Energy Regulatory Commission

[Project No. 2740-055]

Duke Energy Carolinas, LLC; Notice of Revised Procedural Schedule for Processing of Relicense Application

On July 14, 2025, as supplemented,¹ Duke Energy Carolinas, LLC filed an application for a new major license for the 1,400-megawatt Bad Creek Pumped Storage Project No. 2740 (Bad Creek Project, or project). On July 28, 2025, Commission staff issued a notice of application tendered for filing with the Commission and establishing procedural schedule for relicensing the Bad Creek Project. The notice included an anticipated schedule for issuing a Notice of Acceptance/Notice of Ready for Environmental Analysis by September 2025.

¹ The final license application filed July 14, 2025, was supplemented on November 7, 2025, and December 19, 2025.

By this notice, Commission staff is updating the procedural schedule, as follows. Further revisions to the schedule may be made as appropriate.

Milestone | Target date
Issue Notice of Acceptance/Notice of Ready for Environmental Analysis | February 2026.

Any questions regarding this notice may be directed to Sarah Salazar at (202) 502-6863, or sarah.salazar@ferc.gov.

(Authority: 18 CFR 2.1)

Dated: January 27, 2026.
Debbie-Anne A. Reese,
Secretary.

[FR Doc. 2026-01920 Filed 1-29-26; 8:45 am]

BILLING CODE 6717-01-P